DEPARTMENT OF TRANSPORTATION

Coast Guard

33 CFR Part 165

[COTP St. Louis-02-003]

RIN 2115-AA97

Security Zone; Upper Mississippi River, Mile Marker 507.3 to 506.3, Left Descending Bank, Cordova, IL

AGENCY: Coast Guard, DOT.

ACTION: Temporary final rule.

SUMMARY: The Coast Guard is extending the effective period of the security zone at the Quad Cities Nuclear Power Plant, published February 28, 2002. We are extending the effective period of this established security zone until October 15, 2002, to allow adequate time for a proposed permanent rule to be developed through informal rulemaking. This temporary rule will continue to prohibit entry of persons and vessels into this security zone except as authorized by the Captain of the Port St. Louis.

DATES: The revision of § 165.T08-003 (b) is effective June 13, 2002. Section 165.T08-003, added at 67 FR 9208, February 28, 2002, effective from 8 a.m. January 14, 2002, through 8 a.m. June 15, 2002, is extended and will remain in effect through 8 a.m. on October 15, 2002.

ADDRESSES: Documents indicated in this preamble as being available in the docket, are part of docket [COTP St. Louis -02-003] and are available for inspection or copying at Marine Safety Office St. Louis, 1222 Spruce St., Rm. 8.104E, St. Louis, Missouri 63103-2835, between 8 a.m. and 4 p.m., Monday through Friday, except Federal holidays.

FOR FURTHER INFORMATION CONTACT: Lieutenant (LT) David Webb, Marine Safety Detachment Quad Cities, Rock Island, IL at (309) 782-0627.

SUPPLEMENTARY INFORMATION:

Regulatory Information

On February 28, 2002, we published a temporary final rule entitled “Security Zone; Upper Mississippi River, Mile Marker 507.3 to 506.3, Left Descending Bank, Cordova, IL” in the Federal Register (67 FR 9207). The effective period for this rule was from February 28, 2002 until June 15, 2002.

We did not publish a notice of proposed rulemaking (NPRM) for this regulation. Under 5 U.S.C. 553(b)(B), the Coast Guard finds that good cause exists for not publishing an NPRM. The original temporary final rule was immediately required to respond to the security concerns associated with nuclear power plant facilities. It was anticipated that we would assess the security environment at the end of the effective period to determine whether continuing security measures were required. We have determined that the need for a continued security zone regulation exists. The Coast Guard will, during the effective period of this temporary final rule, complete notice and comment rulemaking for permanent regulations tailored to the present and foreseeable security environment.

Under 5 U.S.C. 553(d)(3), good cause exists for making this rule effective less than 30 days after publication in the Federal Register. This extension preserves the status quo of the original security zone. There is no indication that the present temporary final rule has been burdensome on the public. Delaying the effective date of the rule would be contrary to public interest since action is needed to continue to respond to existing security risks.

Background and Purpose

On September 11, 2001, both towers of the World Trade Center and the Pentagon were attacked by terrorists. National security and intelligence officials have warned that future terrorist attacks against civilian targets may be anticipated.

In response to these terrorist acts and warnings, heightened awareness for the security and safety of all vessels, ports, and harbors is necessary. Due to the increased safety and security concerns surrounding nuclear power plants, the Captain of the Port, St. Louis established a temporary security zone around the Quad Cities Nuclear Power Plant in Cordova, Illinois.

This zone includes all water extending 300 feet from the shoreline of the left descending bank on the Upper Mississippi River, beginning at mile marker 507.3 and ending at mile marker 506.3. All persons and vessels are prohibited from entering the security zone without the express permission of the Captain of the Port St. Louis or his designated representative.

The temporary security zone was to expire on June 15, 2002. In order to provide continuous protection while a permanent zone is being promulgated through notice and comment rulemaking, the Coast Guard is extending the effective date of this zone until October 15, 2002.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040, February 26, 1979).

The Coast Guard expects the economic impact of this rule to be so minimal that a full regulatory evaluation under paragraph 10(e) of the regulatory policies and procedures of DOT is unnecessary. The impacts on routine navigation are expected to be minimal as the zone does not include any portion of the navigable channel. Vessel traffic should be able to safely transit around this zone. Vessels that must transit through the security zone may seek permission from the Captain of the Port St. Louis or his designated representative.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities for the reasons enumerated under the Regulatory Evaluation above. If you are a small business entity and are significantly affected by this regulation please contact LT Dave Webb, U.S. Coast Guard Marine Safety Detachment Quad Cities, Rock Island Arsenal Bldg 218, Rock Island, IL 61299-0627 at (309) 782-0627.

Assistance for Small Entities

Under section 213(a) of the Small Business Regulatory Enforcement Fairness Act of 1996 (Public Law 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effect

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that under figure 2-1, paragraph 34(g), of Commandant Instruction M16475.1D, this rule is categorically excluded from further environmental documentation. A “Categorical Exclusion Determination” is available for inspection or copying where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. Revise temporary § 165.T08-003 paragraph (b) to read as follows:

§ 165.T08-003 Security Zone; Upper Mississippi River, Mile Marker 507.3 to 506.3, Left Descending Bank, Cordova, IL.

* * * * *

(b) Effective dates. This section is effective from 8 a.m. on January 14, 2002 through 8 a.m. on October 15, 2002.

* * * * *

Dated: June 7, 2002.
E.A. Washburn,
Commander, U.S. Coast Guard, Captain of the Port St. Louis.

[FR Doc. 02-14966 Filed 6-12-02; 8:45 am]

BILLING CODE 4910-15-P